DEPARTMENT OF ENERGY

FEDERAL ENERGY REGULATORY COMMISSION

[Docket No. EC00-49-000, et al.]

Consolidated Edison, Inc. and Northeast Utilities, et al. Electric Rate and Corporate Regulation Filings

February 8, 2000.

Take notice that the following filings have been made with the Commission:

1. Consolidated Edison, Inc. and Northeast Utilities

[Docket No. EC00-49-000]

Take notice that on February 2, 2000, Consolidated Edison, Inc. and Northeast Utilities filed an amendment to their Joint Application of the Jurisdictional Subsidiaries for Approval of Mergers filed on January 14, 2000.

Comment date: March 14, 2000, in accordance with Standard Paragraph E at the end of this notice.

2. Black River Limited Partnership

[Docket No. EC00-53-000]

Take notice that on January 31, 2000, pursuant to section 203 of the Federal Power Act (FPA), 16 U.S.C. 824b (1998) and Part 33 of the Regulations of the Federal Energy Regulatory Commission (Commission), 18 CFR 33 et seq., Black River Limited Partnership (Applicant) filed an application for Commission approval of the sale and lease transactions with respect to the transmission facilities and books, records, and accounts associated with the sale and leasing of the Ft. Drum Project, located at the Ft. Drum Army Base near Watertown, New York. Applicant requests that the Commission grant any other authorizations necessary to effectuate the proposed transactions.

Applicant also has requested that the Commission find that it will no longer be deemed to be a “public utility” as such term is defined under sction 201 of the FPA upon consummation of the sale and lease transactions. Applicant has requested a shortened notice period and expedited consideration of the application.

Comment date: March 1, 2000, in accordance with Standard Paragraph E at the end of this notice.

3. Duquesne Light Company, and Orion Power MidWest, LLC

[Docket Nos. EC00-54-000 and ER00-1490-000]

Take notice that on February 2, 2000, Duquesne Light Company and Orion Power MidWest, LLC (Orion Power MidWest) (collectively, Applicants) submitted for filing a joint application (Application) requesting authorization under section 203 of the Federal Power Act to transfer certain jurisdictional transmission facilities from Duquesne to Orion Power MidWest. The Applicants also submitted for filing a under section 205 of the Federal Power Act a Provider of Last Resort Agreement, Must-Run Agreements, and Connection and Site Agreements. The transfer of jurisdictional transmission facilities and the Agreements are related to Duquesne's divestiture of all of its electric generating plants to Orion Power MidWest. The Applicants request expeditious action on the Application in order that there be no delay in the transaction.

A copy of the Application was served upon the Pennsylvania Public Utility Commission and the Public Utilities Commission of Ohio.

Comment date: March 3, 2000, in accordance with Standard Paragraph E at the end of this notice.

4. CP&L Holdings, Inc., on Behalf of its Public Utility Subsidiaries and Florida Progress Corporation on Behalf of its Public Utility Subsidiaries

[Docket Nos. EC00-55-000 and ER00-1520-000]

Take notice that on February 3, 2000, CP&L Holdings, Inc. and Florida Progress Corporation on behalf of themselves and their FERC-jurisdictional subsidiaries (collectively, the “Applicants”) tendered for filing pursuant to Sections 203 and 205 of the Federal Power Act and the Federal Energy Regulatory Commission's regulations thereunder a Joint Application For Authorization to Merge Facilities and Related Transactions. The Applicants have requested that a Commission order authorizing the merger as proposed by the Applicants be issued no later than June 30, 2000.

The Applicants also tendered for filing the following agreements, each of which is proposed to become effective upon consummation of the merger:

A Joint Open Access Transmission Tariff of Carolina Power & Light Company (CP&L) and Florida Power Corporation (FPC), pursuant to which transmission services will be supplied over their combined transmission facilities at non-pancaked rates.

A System Integration Agreement between CP&L and FPC, pursuant to which the electric utility operations of the combined system will be coordinated for the purposes of attaining efficiencies and economies.

The merger is structured so that Florida Progress Corporation will become a wholly-owned subsidiary of CP&L Holdings, Inc. CP&L and FPC will each retain their own identities as public utilities and their current service territories.

The Applicants state that they have submitted the information required by Part 33 of the Commission's Regulations, 18 CFR Part 35, and the Commission's Merger Policy Statement, Order No. 592, III FERC Stats. & Regs. ¶ 31,044 (1996), reconsid. denied, 79 FERC ¶ 61,321 (1997) (codified at 18 CFR 2.26) and in 18 CFR Part 35 in support of the Application. Applicants represent that copies of the Application and related testimony and exhibits have been served by overnight delivery on each of CP&L's and FPC's wholesale requirements customers and on the North Carolina Utilities Commission, the South Carolina Public Service Commission, and the Florida Public Service Commission. Letters notifying other parties likely to be interested in the Application have also been sent by overnight mail.

Comment date: April 3, 2000, in accordance with Standard Paragraph E at the end of this notice.

5. Louisiana Generating LLC

[Docket No. EG00-89-000]

On February 3, 2000, Louisiana Generating LLC filed with the Federal Energy Regulatory Commission an application for determination of exempt wholesale generator status pursuant to section 32(a)(1) of the Public Utility Holding Company Act of 1935 (PUHCA). The applicant is a limited liability company organized under the laws of the State of Delaware that will be engaged directly and exclusively in owning and operating eligible facilities and selling electric energy at wholesale. Applicant will be acquiring from Cajun Electric Power Cooperative gas and coal-fired generating units with a total generating capacity of 1,711 MW, located in New Roads, Louisiana.

Comment date: February 29, 2000, in accordance with Standard Paragraph E at the end of this notice. The Commission will limit its consideration of comments to those that concern the adequacy or accuracy of the application.

6. Bonnie Mine Energy, LLC

[Docket No. EG00-90-000]

Take notice that on February 3, 2000, Bonnie Mine Energy, LLC filed with the Federal Energy Regulatory Commission an application for determination of exempt wholesale generator status pursuant to section 32(a)(1) of the Public Utility Holding Company Act of 1935. The applicant is a limited liability company organized under the laws of the State of Delaware that is engaged directly and exclusively in developing, owning, and operating an approximately 800 MW gas-fired combined-cycle power plant in Polk County, Florida, which will be an eligible facility.

Comment date: February 29, 2000, in accordance with Standard Paragraph E at the end of this notice. The Commission will limit its consideration of comments to those that concern the adequacy or accuracy of the application.

7. PJM Interconnection, L.L.C.

[Docket No. EL00-42-000]

Take notice that on February 1, 2000, PJM Interconnection, L.L.C. (PJM) filed, with respect to PECO Energy Company and PP&L Inc., a Petition for Order Directing Production of Information or Extending Reporting Date, pursuant to Rule 207 of the Commission's Rules of Practice and Procedure, 18 CFR 385.207, and Section VI.B.2 of the Commission-approved PJM Market Monitoring Plan.

Comment date: February 22, 2000, in accordance with Standard Paragraph E at the end of this notice.

8. UtiliCorp United Inc. v. City of Harrisonville, Missouri

[Docket No. EL00-43-000]

Take notice that on February 7, 2000, UtiliCorp United Inc. d/b/a Missouri Public Service (MPS), tendered for filing a complaint against the City of Harrisonville, Missouri. The complaint requests that the Commission (1) order Harrisonville to pay in full promptly the $95,324.86 billed by MPS for the fuel adjustment charge for July 1999, and (2) confirm that MPS is within its rights to suspend service to Harrisonville if the city fails to make timely payment to MPS of the amounts owed.

Comment date: February 17, 2000, in accordance with Standard Paragraph E at the end of this notice. Answers to the complaint shall be due on or before February 17, 2000.

9. Boston Edison Company

[Docket No. ER93-150-016]

Take notice that on January 31, 2000, Boston Edison Company filed a compliance refund report and rate schedule revision pursuant to the Commission's January 14, 2000 order in the above-captioned proceeding.

Comment date: February 22, 2000, in accordance with Standard Paragraph E at the end of this notice.

10. Russell Energy Services Company, Tri-Valley Corporation, Community Electric Power Corporation, Amerada Hess Corporation, Coast Energy Group, Novarco Ltd., Northeast Electricity Inc., Trident Energy Marketing, Inc., The Legacy Energy Group, LLC, Energy Resource Marketing Inc., Enerserve, L.C., Fina Energy Services Company, Elwood Marketing LLC, Genstar Energy, L.L.C., Shamrock Trading, LLC

[Docket Nos. ER96-2882-013, ER97-3428-007, ER97-2792-009, ER97-2153-010, ER99-3005-002, ER98-4139-005, ER98-3048-004, ER99-2069-001, ER99-1719-000, and ER99-3571-002, ER94-1580-021, ER96-182-017, ER97-2413-011, ER99-1465-004, ER99-2364-003, ER98-3526-006]

Take notice that on January 24, 2000, the above-mentioned power marketers filed quarterly reports with the Commission in the above-mentioned proceedings for information only.

11. Tampa Electric Company

[Docket No. ER00-801-000]

Take notice that on February 2, 2000, Tampa Electric Company (Tampa Electric), tendered for filing amendments to several of the tariff sheets that were tendered with its initial filing in this docket for inclusion in its open access transmission tariff.

Tampa Electric continues to request that the tariff sheets be made effective on February 14, 2000.

Comment date: February 23, 2000, in accordance with Standard Paragraph E at the end of this notice.

12. Allegheny Energy Service Corporation, on Behalf of Monongahela Power Company, The Potomac Edison Company and West Penn Power Company (Allegheny Power)

[Docket No. ER00-1262-000]

Take notice that on February 2, 2000, Allegheny Energy Service Corporation on behalf of Monongahela Power Company, The Potomac Edison Company and West Penn Power Company (Allegheny Power), tendered for filing a request to amend their Pro Forma Open Access Transmission Tariff to substitute sheets reflecting changes previously accepted by the Commission in Orders dated April 6, 1999, Docket Nos. ER96-58-002 and ER99-237-001 and July 14, 1999, Docket Nos. ER96-58-004 and ER99-237-003.

Copies of the filing have been provided to the Public Utilities Commission of Ohio, the Pennsylvania Public Utility Commission, the Maryland Public Service Commission, the Virginia State Corporation Commission, the West Virginia Public Service Commission, and all parties of record.

Comment date: February 23, 2000, in accordance with Standard Paragraph E at the end of this notice.

13. Middletown Power LLC

[Docket No. ER00-1373-000]

Take notice that on January 31, 2000, Middletown Power LLC, tendered for filing under its market-based rate tariff a long-term service agreement with NRG Power Marketing, Inc.

Comment date: February 22, 2000, in accordance with Standard Paragraph E at the end of this notice.

14. Montville Power LLC

[Docket No. ER00-1374-000]

Take notice that on January 31, 2000, Montville Power LLC tendered for filing under its market-based rate tariff a long-term service agreement with NRG Power Marketing, Inc.

Comment date: February 22, 2000, in accordance with Standard Paragraph E at the end of this notice.

15. Norwalk Power LLC

[Docket No. ER00-1375-000]

Take notice that on January 31, 2000, Norwalk Power LLC, tendered for filing under its market-based rate tariff a long-term service agreement with NRG Power Marketing, Inc.

Comment date: February 22, 2000, in accordance with Standard Paragraph E at the end of this notice.

16. Devon Power LLC

[Docket No. ER00-1376-000]

Take notice that on January 31, 2000, Devon Power LLC, tendered for filing under its market-based rate tariff a long-term service agreement with NRG Power Marketing, Inc.

Comment date: February 22, 2000, in accordance with Standard Paragraph E at the end of this notice.

17. Connecticut Jet Power LLC

[Docket No. ER00-1377-000]

Take notice that on January 31, 2000, Connecticut Jet Power LLC, tendered for filing under its market-based rate tariff a long-term service agreement with NRG Power Marketing, Inc.

Comment date: February 22, 2000, in accordance with Standard Paragraph E at the end of this notice.

18. Ameren Services Company

[Docket No. ER00-1381-000]

Take notice that on January 31, 2000, Ameren Services Company (ASC), tendered for filing an unexecuted Network Integration Transmission Service Agreement and associated Network Operating Agreement, between ASC and Citizens Electric Corporation. ASC asserts that the purpose of the agreements are to permit ASC to provide service over its transmission and distribution facilities to Citizens Electric Corporation pursuant to the Ameren Open Access Tariff.

Comment date: February 22, 2000, in accordance with Standard Paragraph E at the end of this notice.

19. Virginia Electric and Power Company

[Docket No. ER00-1382-000]

Take notice that on January 31, 2000, Virginia Electric and Power Company (Virginia Power), tendered for filing the Service Agreement between Virginia Electric and Power Company and MidAmerican Energy Company. Under the Service Agreement, Virginia Power will provide services to MidAmerican Energy Company under the terms of the Company's Revised Market-Based Rate Tariff designated as FERC Electric Tariff (Second Revised Volume No. 4), which was accepted by order of the Commission dated August 13, 1998 in Docket No. ER98-3771-000.

Virginia Power requests an effective date of January 31, 2000.

Copies of the filing were served upon MidAmerican Energy Company, the Virginia State Corporation Commission and the North Carolina Utilities Commission.

Comment date: February 22, 2000, in accordance with Standard Paragraph E at the end of this notice.

20. The United Illuminating Company

[Docket No. ER00-1390-000]

Take notice that on January 31, 2000, The United Illuminating Company (UI) tendered for filing a Service Agreement dated January 1, 2000, between UI and Wisvest-Connecticut L.L.C. (Wisvest), for firm point-to-point transmission service under UI's Open Access Transmission Tariff, FERC Electric Tariff, Original Volume No. 4, as amended. UI also filed Amendment No. 1 to the April 16, 1999 Interconnection Agreement between UI and Wisvest, also dated January 1, 2000.

UI requests an effective date of January 1, 2000 and has therefore requested that the Commission waive its 60-day prior notice requirement.

Copies of the filing were served upon the Contract Administrator, Wisvest-Connecticut L.L.C. and Robert J. Murphy, Executive Secretary, Connecticut Department of Public Utility Control.

Comment date: February 22, 2000, in accordance with Standard Paragraph E at the end of this notice.

21. New England Power Pool

[Docket No. ER00-1391-000]

Take notice that on January 31, 2000, the New England Power Pool (NEPOOL) Participants Committee filed for acceptance a signature page to the New England Power Pool Agreement dated September 1, 1971, as amended, signed by Enron Energy Services, Inc. (EESI). The NEPOOL Agreement has been designated NEPOOL FPC No. 2.

The Participants Committee states that the Commission's acceptance of EESI's signature page would permit NEPOOL to expand its membership to include EESI. The Participants Committee further states that the filed signature page does not change the NEPOOL Agreement in any manner, other than to make EESI a member in NEPOOL.

The Participants Committee requests an effective date of April 1, 2000, for commencement of participation in NEPOOL by EESI.

Comment date: February 22, 2000, in accordance with Standard Paragraph E at the end of this notice.

22. New England Power Pool

[Docket No. ER00-1394-000]

Take notice that on January 31, 2000, the New England Power Pool (NEPOOL) Participants Committee filed for acceptance a signature page to the New England Power Pool Agreement dated September 1, 1971, as amended, signed by the Town of Wiscasset (Wiscasset). The NEPOOL Agreement has been designated NEPOOL FPC No. 2.

The Participants Committee states that the Commission's acceptance of Wiscasset's signature page would permit NEPOOL to expand its membership to include Wiscasset. The Participants Committee further states that the filed signature page does not change the NEPOOL Agreement in any manner, other than to make Wiscasset a member in NEPOOL.

The Participants Committee requests an effective date of February 1, 2000, for commencement of participation in NEPOOL by Wiscasset.

Comment date: February 22, 2000, in accordance with Standard Paragraph E at the end of this notice.

23. Indianapolis Power & Light Company

[Docket No. ER00-1397-000]

Take notice that on January 31, 2000, pursuant to Section 35.15(a), 18 CFR 35.15(a) of the Commission's Regulations, Indianapolis Power & Light Company (IPL) filed with the Federal Energy Regulatory Commission a Notice of Termination of the Interchange Agreement between IPL and LG& Power Marketing, Inc., effective March 1, 1996, designated as IPL Rate Schedule FERC No. 29.

Additionally, pursuant to Section 35.15 (a) of the Commission's Regulations, IPL requests an effective date for this termination of May 1, 2000.

Comment date: February 22, 2000, in accordance with Standard Paragraph E at the end of this notice.

24. Indianapolis Power & Light Co.

[Docket No. ER00-1398-000]

Take notice that on January 31, 2000, pursuant to Section 35.15(a), 18 CFR 35.15(a) of the Commission's Regulations, Indianapolis Power & Light Company (IPL) tendered for filing with the Federal Energy Regulatory Commission Notice of Termination of the Interchange Agreement between IPL and Catex Vitol Electric LLC, effective March 1, 1996, designated as IPL Rate Schedule FERC No. 31.

Additionally, pursuant to Section 35.15 (a) of the Commission's Regulations, IPL requests an effective date for this termination of May 1, 2000.

Comment date: February 22, 2000, in accordance with Standard Paragraph E at the end of this notice.

25. Minnesota Power, Inc.

[Docket No. ER00-1399-000]

Take notice that on January 31, 2000, Minnesota Power, Inc. (Minnesota Power), tendered for filing an addendum to certain Agreements with Alliant Energy that would permit the incremental cost of sulfur dioxide (SO2) emissions allowances to be included in the calculation of Minnesota Power's rates under the coordination rate schedules.

The change is designed to conform the rate schedule to the Commission's rule regarding the ratemaking treatment of SO2 emissions allowances for Phase II units issued under the Clean Air Act Amendments of 1990.

A copy of the filing was served upon Alliant Energy.

Comment date: February 22, 2000, in accordance with Standard Paragraph E at the end of this notice.

26. Entergy Services, Inc.

[Docket No. ER00-1400-000]

Take notice that on January 31, 2000, Entergy Services, Inc., on behalf of Entergy Arkansas, Inc., Entergy Gulf States, Inc., Entergy Louisiana, Inc., Entergy Mississippi, Inc., and Entergy New Orleans, Inc., (collectively, the Entergy Operating Companies) tendered for filing a Firm Point-to-Point Transmission Service Agreement between Entergy Services, Inc., as agent for the Entergy Operating Companies, and Reliant Energy Services, Inc.

Comment date: February 22, 2000, in accordance with Standard Paragraph E at the end of this notice.

27. American Electric Power Service Corporation

[Docket No. ER00-1403-000]

Take notice that on January 31, 2000, the American Electric Power Service Corporation (AEPSC), tendered for filing executed Firm and Non-Firm Point-to-Point Transmission Service Agreements for ACN Power, Inc. and Jay County Electric Cooperative, Inc. These agreements are pursuant to the AEP Companies' Open Access Transmission Service Tariff (OATT). The OATT has been designated as FERC Electric Tariff Original Volume No. 4, effective July 9, 1996.

AEPSC requests waiver of notice to permit the Service Agreements to be made effective for service billed on and after January 1, 2000.

AEPSC also tendered for filing an executed supplement to Network Transmission Service (NTS) Agreement No. 116. The supplement modifies the service agreement to include new delivery points requested by WVPA and a load power factor billing provision.

AEPSC requested that West Penn Power firm and non-firm point-to-point Service Agreement Nos. 170 and 168, under AEP Companies' FERC Electric Tariff Original Volume No. 4, accepted for filing in Docket No, ER98-4390-000, effective August 1, 1998, be assigned to Allegheny Energy Supply.

AEPSC also requested termination of AEP Operating Companies Rate Schedule FERC No. 5, filed in Docket No. ER95-219-000, and AEP Companies' FERC Electric Tariff Original Volume No. 1, Service Agreement No. 47, accepted for filing in Docket No. ER96-1313-000. Those agreements are superceded by firm and non-firm Point-to-Point Service Agreements Nos. 231 and 234, under AEP Companies' FERC Electric Tariff Original Volume No. 4. The customer holding those agreements, Dynegy Power Marketing, Inc., has previously executed new agreements.

A copy of the filing was served upon the Parties and the state utility regulatory commissions of Indiana, Kentucky, Michigan, Ohio, Tennessee, Virginia and West Virginia.

Comment date: February 22, 2000, in accordance with Standard Paragraph E at the end of this notice.

28. UAE Lowell Power LLC

[Docket No. ER00-1405-000]

Take notice that on UAE Lowell LLC (UAE Lowell), tendered for filing a service agreement establishing Southern Company Energy Marketing L.P. (Southern) as a customer under UAE Lowell's Rate Schedule No. 1.

UAE Lowell requests an effective date of January 1, 2000.

UAE Lowell states that a copy of the filing was served on Southern.

Comment date: February 22, 2000, in accordance with Standard Paragraph E at the end of this notice.

29. Florida Power & Light Company

[Docket No. ER00-1406-000]

Take notice that on January 31, 2000, Florida Power & Light Company (FPL), tendered for filing proposed service agreements with Cargill-Alliant, LLC for Short-Term Firm and Non-Firm transmission service under FPL's Open Access Transmission Tariff.

FPL requests that the proposed service agreements are permitted to become effective on February 1, 2000.

FPL states that this filing is in accordance with Section 35 of the Commission's regulations.

Comment date: February 22, 2000, in accordance with Standard Paragraph E at the end of this notice.

30. The Detroit Edison Company

[Docket No. ER00-1407-000]

Take notice that on January 31, 2000, The Detroit Edison Company (Detroit Edison), tendered for filing Service Agreements for wholesale power sales transactions (the Service Agreements) under Detroit Edison's Wholesale Power Sales Tariff (WPS-2), FERC Electric Tariff No. 3 (the WPS-2 Tariff).

Comment date: February 22, 2000, in accordance with Standard Paragraph E at the end of this notice.

31. Utilimax.com, Inc.

[Docket No. ER00-1408-000]

Take notice that on January 31, 2000, Utilimax.com, Inc. (Utilimax), petitioned the Commission for acceptance of Utilimax Rate Schedule FERC No. 1; the granting of certain blanket approvals, including the authority to sell electricity at market-based rates; and the waiver of certain Commission regulations.

Utilimax intends to engage in wholesale electric power and energy purchases and sales as a marketer. Utilimax is not in the business of generating or transmitting electric power.

Comment date: February 22, 2000, in accordance with Standard Paragraph E at the end of this notice.

32. Wayne-White Counties Electric Cooperative

[Docket No. ER00-1409-000]

Take notice that Wayne-White Counties Electric Cooperative (WWCEC or Cooperative) on January 31, 2000, tendered for filing an unexecuted Service Agreement for Firm Point-to-Point Transmission Service with Illinois Power Company. Under the Service Agreement, WWCEC will provide firm point-to-point transmission service to Illinois Power Company under the Cooperative's Open Access Transmission Tariff.

WWCEC requests an effective date of January 1, 2000, the date service was first provided.

A copy of the filing was served upon Illinois Power Company.

Comment date: February 22, 2000, in accordance with Standard Paragraph E at the end of this notice.

33. FirstEnergy Corp.

[Docket No. ER00-1410-000]

Take notice that on January 31, 2000, FirstEnergy Corp., as agent for its wholly owned subsidiaries, The Cleveland Electric Illuminating Company, Ohio Edison Company, Pennsylvania Power Company and The Toledo Edison Company, filed an Amendment to the Network Service Agreement between FirstEnergy and American Muncipal Power-Ohio, Inc. under the FirstEnergy Open Access Tariff to recover an increase in the Pennsylvania Gross Receipts Tax applicable to certain Pennsylvania Boroughs who obtain transmission service through American Municipal Power-Ohio, Inc. FirstEnergy requests approval under Section 205 of the Federal Power Act for the increase in tax rate to the Boroughs.

Comment date: February 22, 2000, in accordance with Standard Paragraph E at the end of this notice.

34. Illinois Power Company

[Docket No. ER00-1411-000]

Take notice that, on January 31, 2000, Illinois Power Company (Illinois Power), 500 South 27th Street, Decatur, Illinois 62521, tendered for filing an unexecuted Service Agreement for Network Integration Transmission Service and an unexecuted Network Operating Agreement under which Soyland Power Cooperative, Inc., will take transmission service pursuant to Illinois Power's open access transmission tariff (OATT). The agreements are based on the forms of agreements in Illinois Power's OATT.

Illinois Power has requested an effective date of January 1, 2000.

Comment date: February 22, 2000, in accordance with Standard Paragraph E at the end of this notice.

35. Illinois Power Company

[Docket No. ER00-1412-000]

Take notice that, on January 31, 2000, Illinois Power Company (Illinois Power), 500 South 27th Street, Decatur, Illinois 62521, tendered for filing a firm transmission service agreement under which Dynegy Power Marketing, Inc. will take transmission service pursuant to Illinois Power's open access transmission tariff (OATT). The agreement is based on the form of agreement in Illinois Power's OATT.

Illinois Power has requested an effective date of January 1, 2000.

Comment date: February 22, 2000, in accordance with Standard Paragraph E at the end of this notice.

36. Pacific Gas and Electric Company

[Docket No. ER00-1462-000]

Take notice that on February 1, 2000, Pacific Gas and Electric Company (PG&E), tendered for filing an “Generator Special Facilities Agreement” (GSFA) and a “Generator Interconnection Agreement” between PG&E and San Joaquin Cogen Limited” (San Joaquin).

The GSFA permits PG&E to recover the ongoing costs associated with owning, operating and maintaining the Special Facilities. As detailed in the Special Facilities Agreement, PG&E proposes to charge San Joaquin a monthly Cost of Ownership Charge equal to the rate for distribution-level, customer-financed facilities in PG&E's currently effective Electric Rule 2, as filed with the California Public Utilities Commission (CPUC). PG&E's currently effective rate of 0.46% for distribution-level, customer-financed Special Facilities is contained in the CPUC's Advice Letter 1960-G/1587-E, effective August 5, 1996, a copy of which is included as Attachment 3 of this filing. PG&E has requested permission to use automatic rate adjustments whenever the CPUC authorizes a new Electric Rule 2 Cost of Ownership Rate for distribution-level, customer-financed special facilities but caps the rate at 0.65% per month.

Copies of this filing have been served upon San Joaquin and the CPUC.

Comment date: February 22, 2000, in accordance with Standard Paragraph E at the end of this notice.

37. Orion Power MidWest, LLC

[Docket No. ER00-1463-000]

Take notice that on February 1, 2000, Orion Power MidWest, LLC, with an office located at c/o Orion Power Holdings, Inc., 7 E. Redwood Street, 10th Floor, Baltimore, Maryland 21202, tendered for filing with the Federal Energy Regulatory Commission (Commission) an application seeking waivers and granting blanket approvals under various Commission regulations and for an order accepting Orion Power MidWest's initial rate schedule, FERC Electric Rate Schedule No. 1.

Orion Power MidWest's acquisition of the Duquesne Light Company's Generating Assets will close on or about May 1, 2000. Orion Power MidWest intends to sell energy and capacity, and certain ancillary services from the Generating Assets at market-based rates. In transactions where Orion Power MidWest sells electric energy, it proposes to make such sales on rates, terms and conditions to be mutually agreed to with the purchasing party.

Comment date: February 22, 2000, in accordance with Standard Paragraph E at the end of this notice.

38. PJM Interconnection, L.L.C.

[Docket No. ER00-1465-000]

Take notice that on February 1, 2000, PJM Interconnection, L.L.C. (PJM), tendered for filing three executed service agreements for long-term firm point-to-point transmission service under the PJM Open Access Transmission Tariff with Cinergy Power Marketing and Trading for 200 MW (between PJM West Hub and First Energy (CEI)), PECO Energy Power Team for 214 MW (between PECO Energy and Allegheny), and PECO Energy Power Team for 750 MW (between PECO Energy and Virginia Power).

Copies of this filing were served upon the parties to the service agreements.

Comment date: February 22, 2000, in accordance with Standard Paragraph E at the end of this notice.

39. New York Independent System Operator, Inc.

[Docket No. ER00-1461-000]

Take notice that on February 1, 2000, the New York Independent System Operator, Inc. (NYISO), tendered for filing (i) an executed copy of the Agreement between the New York Independent System Operator and Transmission Owners, (ii) an executed copy of the Independent System Operator Agreement together with 62 additional signed signature pages to the ISO Agreement, and (iii) an executed copy of the Agreement between the New York Independent System Operator and the New York State Reliability Council.

The NYISO is not proposing any changes in any of the agreements. Except as otherwise noted, the NYISO requests an effective date of December 1, 1999 and waiver of the Commission's notice requirements.

Copies of this filing were served on the Commission's Service List in Docket Nos. ER97-1523-000 et al., on the parties to the ISO Agreement and on the respective electric utility regulatory agencies in New York, New Jersey and Pennsylvania.

Comment date: February 22, 2000, in accordance with Standard Paragraph E at the end of this notice.

40. Orion Power MidWest, LLC and FirstEnergy Corp.

[Docket No. ER00-1460-000]

Take notice that on February 1, 2000, Orion Power MidWest, LLC (Orion Power MidWest) and FirstEnergy Corp. (FirstEnergy), tendered for filing with the Federal Energy Regulatory Commission (Commission) under Section 205 of the Federal Power Act certain jurisdictional agreements providing for services related to Orion Power MidWest's acquisition of generation assets from Duquesne Light Company.

Comment date: February 22, 2000, in accordance with Standard Paragraph E at the end of this notice.

41. New York Independent System Operator, Inc., Central Hudson Gas & Electric Corp., Consolidated Edison Company of New York, Inc., New York State Electric & Gas Corporation, Niagara Mohawk Power Corporation, Orange & Rockland Utilities, Inc., Rochester Gas & Electric Corp.

[Docket No. ER00-1483-000]

Take notice that on February 1, 2000 the New York Independent System Operator, Inc. (NYISO), tendered for filing a Transitional Installed Capacity market design in the above-referenced proceeding consisting of a series of revisions to the Installed Capacity provisions of the NYISO's Market Administration and Control Area Services Tariff and an accompanying Installed Capacity auction description document.

The NYISO requests an effective date of March 15, 2000.

A copy of this filing was served upon all persons on the Commission's official service lists in Docket Nos. ER97-1523-000, OA97-470-000 and ER97-4234-000 (not consolidated), and the respective electric utility regulatory agencies in New York, New Jersey and Pennsylvania.

Comment date: February 22, 2000, in accordance with Standard Paragraph E at the end of this notice.

42. Central Illinois Public Service Corporation

[Docket No. ER00-1503-000]

Take notice that on February 2, 2000, Central Illinois Public Service Corporation (AmerenCIPS), tendered for filing an Agreement Among Citizens Electric Corporation, Central Illinois Public Service Corporation, and Union Electric Company dated December 29, 1999 (the Agreement). AmerenCIPS states that under the Agreement, responsibility for providing wholesale electric service to Citizens Electric Corporation (Citizens) is being transferred to it from Union Electric Company (AmerenUE), an affiliated electric utility. AmerenCIPS further states that the rates, terms and conditions under which service is being supplied to Citizens will not be affected by the transfer, but that the term of an existing Wholesale Electric Service Agreement with Citizens is being extended to December 31, 2001.

AmerenCIPS is proposing to make the Agreement effective as of January 1, 2000.

Comment date: February 23, 2000, in accordance with Standard Paragraph E at the end of this notice.

43. Central Illinois Public Service Corporation

[Docket No. ER00-1504-000]

Take notice that on February 2, 2000, Central Illinois Public Service Corporation (AmerenCIPS), tendered for filing an Agreement Among the City of Fredericktown, MO, Central Illinois Public Service Corporation, and Union Electric Company. AmerenCIPS states that under the Agreement, responsibility for providing wholesale electric service to the City of Fredericktown, MO (Fredericktown) is being transferred to it from Union Electric Company (AmerenUE), an affiliated electric utility. AmerenCIPS further states that the rates, terms and conditions under which service is being supplied to Fredericktown will not be affected by the transfer, but that the term of an existing Wholesale Electric Service Agreement with Fredericktown is being extended to December 31, 2001.

AmerenCIPS is proposing to make the Agreement effective as of February 1, 2000.

Comment date: February 23, 2000, in accordance with Standard Paragraph E at the end of this notice.

44. Central Illinois Public Service Corporation

[Docket No. ER00-1506-000]

Take notice that on February 2, 2000, Central Illinois Public Service Corporation (AmerenCIPS), tendered for filing an Agreement Among the City of Owensville, MO, Central Illinois Public Service Corporation, and Union Electric Company dated January 25, 2000 (the Agreement). AmerenCIPS states that under the Agreement, responsibility for providing wholesale electric service to the City of Owensville, MO (Owensville) is being transferred to it from Union Electric Company (AmerenUE), an affiliated electric utility. AmerenCIPS further states that the rates, terms and conditions under which service is being supplied to Owensville will not be affected by the transfer, but that the term of an existing Wholesale Electric Service Agreement with Owensville is being extended to December 31, 2001.

AmerenCIPS is proposing to make the Agreement effective as of February 1, 2000.

Comment date: February 23, 2000, in accordance with Standard Paragraph E at the end of this notice.

45. Louisville Gas and Electric Company/Kentucky Utilities Company

[Docket No. ER00-1507-000]

Take notice that on February 1, 2000 Louisville Gas and Electric Company/Kentucky Utilities (LG&E/KU), tendered for filing a revision to their Transmission Coordination Agreement, Rate Schedule FERC No. 2.

Comment date: February 23, 2000, in accordance with Standard Paragraph E at the end of this notice.

46. Commonwealth Edison Company

[Docket No. ER00-1508-000]

Take notice that on February 2, 2000, Commonwealth Edison Company (ComEd) tendered for filing a revised Firm Point-to-Point Transmission Service Agreement with Alliant Bulk Power under the terms of ComEd's Open Access Transmission Tariff (OATT).

Copies of this filing were served on Alliant.

Comment date: February 23, 2000, in accordance with Standard Paragraph E at the end of this notice.

47. Consumers Energy Company

[Docket No. ER00-1509-000]

Take notice that on February 2, 2000, Consumers Energy Company (Consumers), tendered for filing an executed service agreement for Firm Point-to-Point Transmission Service with Tenaska Power Services Company. The agreement was pursuant to the Joint Open Access Transmission Service Tariff filed on December 31, 1996 by Consumers and

The Detroit Edison Company (Detroit Edison) and has an effective date of January 25, 2000.

Copies of the filed agreement were served upon the Michigan Public Service Commission, Detroit Edison, and Tenaska Power Services Company.

Comment date: February 23, 2000, in accordance with Standard Paragraph E at the end of this notice.

48. Dayton Power and Light Company

[Docket No. ER00-1510-000]

Take notice that on February 2, 2000, The Dayton Power and Light Company (Dayton), tendered for filing Long Term Firm transmission service agreements pursuant to its open access transmission tariff.

Comment date: February 23, 2000, in accordance with Standard Paragraph E at the end of this notice.

49. Columbia Energy Power Marketing Corporation

[Docket No. ER00-1511-000]

Take notice that on February 2, 2000, Columbia Energy Power Marketing Corporation (CEPM), tendered for filing a notice of cancellation of its Rate Schedule FERC No. 1, to be effective on the date CEPM transfers all of its wholesale sales contracts to Enron Power Marketing, Inc., pursuant to Commission approval of the application filed by CEPM in Docket No. EC00-51-000.

Comment date: February 23, 2000, in accordance with Standard Paragraph E at the end of this notice.

50. California Independent System Operator Corporation

[Docket No. ER00-1514-000]

Take notice that on February 2, 2000, the California Independent System Operator Corporation (ISO), tendered for filing notice of termination of the Meter Service Agreement for Scheduling Coordinators (MSA SC) between the ISO and the Montana Power Trading & Marketing Company.

The ISO requests that the MSA SC be terminated effective April 19, 2000.

The ISO states that copies of this filing have been served on all parties in the above-referenced docket.

Comment date: February 23, 2000, in accordance with Standard Paragraph E at the end of this notice.

51. Old Dominion Electric Cooperative

[Docket No. ER00-1512-000]

Take notice that on February 2, 2000, Old Dominion Electric Cooperative (Applicant), tendered for filing an Application Submitting Service Agreement Pursuant to Market-Based Rate Authority And Request For Waivers, submitting a Service Agreement between the Applicant and Northern Virginia Electric Cooperative for service to a single, new delivery point pursuant to the Applicant's previously granted authority to make sales at market-based rates.

Comment date: February 23, 2000, in accordance with Standard Paragraph E at the end of this notice.

52. Atlantic City Electric Company

[Docket No. ER00-1515-000]

Take notice that on February 2, 2000, Atlantic City Electric Company (Atlantic), tendered for filing an executed umbrella service agreement with Tenaska Power Services Co. (Tenaska), under Atlantic's market rate sales tariff.

Atlantic requests an effective date of February 2, 2000.

Comment date: February 23, 2000, in accordance with Standard Paragraph E at the end of this notice.

53. PJM Interconnection, L.L.C.

[Docket No. ER00-1516-000]

Take notice that on February 2, 2000, PJM Interconnection, L.L.C. (PJM), tendered for filing an amendment to Schedule 11 (PJM Capacity Credit Markets) of the Amended and Restated Operating Agreement of PJM Interconnection, L.L.C., extending the expiration date of the mandatory Sell Offers and Buy Bids provision until May 31, 2001.

Copies of this filing were served upon all PJM Members and the electric regulatory commissions in the PJM Control Area.

Comment date: February 23, 2000, in accordance with Standard Paragraph E at the end of this notice.

54. San Joaquin Cogen Limited

[Docket No. ER00-1517-000]

Take notice that on February 2, 2000, San Joaquin Cogen Limited (San Joaquin), tendered for filing an application for waivers and blanket approvals under various regulations of the Commission and for an order accepting its FERC Electric Rate Schedule No. 1. San Joaquin proposed that its Rate Schedule No. 1 become effective immediately. San Joaquin intends to sell energy, capacity and ancillary services from its 49 MW natural gas-fired cogeneration plant in Lathrop, California at market-based rates, and on such terms and conditions to be mutually agreed to with the purchasing party.

Comment date: February 23, 2000, in accordance with Standard Paragraph E at the end of this notice.

55. Robert N. Danziger

[Docket No. ID-3454-000]

Take notice that on February 1, 2000, Robert N. Danziger filed an abbreviated application for authorization to hold interlocking positions as President, Chief Executive Officer, and Director of Sunlaw Energy Corporation; President and Director of Sunlaw Operating Corporation; President and Director of Sunlaw Environmental Technologies, Inc.; and President and Manager of Goal Line Management LLC.

Comment date: March 2, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-3460 Filed 2-14-00; 8:45 am]

BILLING CODE 6717-01-P